DEPARTMENT OF THE INTERIOR

National Park Service

Subsistence Resource Commission Meeting

AGENCY: National Park Service, Interior.

ACTION: Announcement of Subsistence Resource Commission meeting.

SUMMARY: In accordance with the Federal Advisory Committee Act (Pub. L. 92-463, 86 Stat. 770, 5 U.S.C. App. 1, Section 10), notice is hereby given that the Superintendent of Gates of the Arctic National Park and Preserve and the Chairperson of the Subsistence Resource Commission for Gates of the Arctic National Park announce a forthcoming meeting of the Gates of the Arctic National Park Subsistence Resource Commission. The following agenda items will be discussed:

(1) Call to order.

(2) Roll call. Confirm quorum.

(3) Approval of summary of meeting minutes for November 13-14, 2001 meeting in Fairbanks.

(4) Review agenda.

(5) Superintendent's Welcome.

(6) Introductions of Guests and Agency Staff.

(7) Review Commission Role and Purpose.

(8) Superintendent's Management and Research Update.

(9) Public and agency comments.

(10) Old Business:

a. October 2001 SRC Chair's Workshop Report.

b. Status Gates of the Arctic National Park and Preserve Subsistence Management Plan.

c. Status Customary Trade Hunting Plan Recommendation 99-01.

(11) New Business:

a. Review Federal Subsistence Board and Regional Advisory Council Proposals and Record of Actions Taken.

b. Federal Subsistence Fisheries Management Update.

c. SRC Work Session.

(12) SRC Elections for Chair and Vice Chair.

(13) Set time and place of next SRC meeting.

(14) Adjournment.

DATES: The meeting will be held from 8:30 a.m. to 5 p.m. on Thursday, December 13, 2001, and 8:30 a.m. to 5 p.m. on Friday, December 14, 2001.

Location: The meeting will be held at Wedgewood Manor Resorts, 212 Wedgewood Drive, University Ave., Fairbanks, Alaska 99701, Tel. (907) 452-1442.

FOR FURTHER INFORMATION CONTACT: Dave Mills, Superintendent and Fred Andersen, Subsistence Manager, 201 First Avenue, Doyon Bldg., Fairbanks, Alaska 99701, Telephone (907) 456-0281.

SUPPLEMENTARY INFORMATION: The Subsistence Resource Commissions are authorized under Title VIII, section 808, of the Alaska National Interest Lands Conservation Act, Public Law 96-487 and operate in accordance with the provisions of the Federal Advisory Committees Act.

In light of a recent attempt to relocate National Park Service administrative personnel and offices in Washington, DC, this notice may not be published at least 15 days prior to the meeting. The National Park Service regrets these events, but is compelled to hold the meeting as scheduled because of the significant sacrifice rescheduling would require of commission members who have adjusted their schedules to accommodate the proposed meeting dates.

Draft minutes of the meeting will be available for public inspection approximately 6 weeks after the meeting at the Gates of the Arctic National Park & Preserve Office, 201 First Avenue, Doyon Bldg., Fairbanks, Alaska 99701, Telephone (907) 456-0281.

Paul R. Anderson,
Acting Regional Director.

[FR Doc. 01-30332 Filed 12-6-01; 8:45 am]

BILLING CODE 4310-70-M